DEPARTMENT OF ENERGY

Federal Energy Regulatory Commission

[Project No. 15283-000]

The Chemical Market Analysis & Consulting Company, LLC; Notice of Preliminary Permit Application Accepted for Filing and Soliciting Comments, Motions To Intervene, and Competing Applications

On August 11, 2022, The Chemical Market Analysis & Consulting Company, LLC, filed an application for a preliminary permit, pursuant to section 4(f) of the Federal Power Act (FPA), proposing to study the feasibility of the Fitler Bend Hydrokinetic Energy Project to be located on the Mississippi River in Issaquena County, Mississippi, and East Carroll Parish, Louisiana. The sole purpose of a preliminary permit, if issued, is to grant the permit holder priority to file a license application during the permit term. A preliminary permit does not authorize the permit holder to perform any land-disturbing activities or otherwise enter upon lands or waters owned by others without the owners' express permission.

The proposed Filter Bend Hydrokinetic Project would consist of: (1) 2,000, 10 to 13 foot diameter, 750 kilowatt hydrokinetic turbine units arranged in arrays, typically two units wide and three units high, and generating power from the flow of the Mississippi River; (2) approximately 333 stand-alone pilings, installed in the river bottom, one for mounting each array; and (3) 34.6 kilovolt substations, constructed of masonry above the high-water mark of the riverbank, receiving power from the arrays, and interconnecting with potential industrial consumers. The total project would occupy much of the bottom of the Issaquena County, Mississippi side of an approximately 15 mile reach of Mississippi River. The project would have a total installed capacity of 1,500 megawatts and an average annual generation of 1.56 million megawatt-hours.

Applicant Contact: Cooley May, Chemical Market Analysis & Consulting Company, LLC, 1160 Dairy Ashford Road, Suite 609, Houston, TX 77079; email: cooley.may@c-macc.com; phone: (212) 729-3669.

FERC Contact: Michael Spencer; email: michael.spencer@ferc.gov; phone: (202) 502-6093.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15283-000.

More information about this project, including a copy of the application, can be viewed or printed on the “eLibrary” link of the Commission's website at https://www.ferc.gov/docs-filing/elibrary.asp. Enter the docket number (P-15283) in the docket number field to access the document. For assistance, contact FERC Online Support.

Dated: September 22, 2022.
Debbie-Anne A. Reese,
Deputy Secretary.

[FR Doc. 2022-21005 Filed 9-27-22; 8:45 am]

BILLING CODE 6717-01-P